DEPARTMENT OF ENERGY

Federal Energy Regulatory Commission

[Project No. 4334-017]

EONY Generation Limited; Notice of Denial of Water Quality Certification

On January 28, 2021, EONY Generation Limited (EONY) filed an application for a new license for the Philadelphia Hydroelectric Project (project) in the above captioned docket. EONY filed with the New York State Department of Environmental Conservation (New York DEC) a request for water quality certification for the project under section 401(a)(1) of the Clean Water Act on August 26, 2022. On August 22, 2023, the New York DEC denied certification for the project. Pursuant to 40 CFR 121.8, we are providing notice that New York DEC's denial satisfies the requirements of 40 CFR 121.7(e).

Dated: August 30, 2023.
Kimberly D. Bose,
Secretary.

[FR Doc. 2023-19219 Filed 9-6-23; 8:45 am]

BILLING CODE 6717-01-P